DEPARTMENT OF DEFENSE

Department of the Army

Notice of Availability for the Record of Decision (ROD) for the Supplemental Final Environmental Impact Statement (SFEIS) for the Proposed Addition of Maneuver Training Land at Fort Irwin, California

AGENCY: U.S. National Training Center and Fort Irwin, Department of the Army, DoD.

ACTION: Notice of availability.

SUMMARY: The Department of the Army announces the availability of its ROD for the Proposed Addition of Maneuver Training Land at Fort Irwin, California. On 20 January 2006, the Army published a notice of availability of its SFEIS. The SFEIS reviewed the environmental, cultural, and socioeconomic impacts of five action alternatives associated with the addition of maneuver training land at Fort Irwin, as well as a No Action (status quo) alternative. Based on the SFEIS, the Army has demised to implement Alternative I, the East/West Alternative. Under this alternative, additional lands totaling approximately 150,510 acres would be added to the available training lands. The decision includes training in new areas to the east and west of the existing Fort Irwin, and in a portion of southern Fort Irwin previously off-limits to training. Expansion of the maneuver area of the National Training Center (FTC) provides an extended battle space (land and air) for training Army brigade-sized units according to the Army's training and combat operations. Today's Army can drive faster, shoot farther, and operate over wider ranges than the Army of 1981, when the FTC opened. These advances in technology are the driving factor for this expansion.

Alternative I was chosen because it best meets the Army's need for additional training land. There are impacts to many natural resources expected as part of the proposed action. Mitigation has been proposed to offset the impacts identified in the SFEIS. Even taking into account this mitigation, however, there will still be significant impacts to threatened and endangered species, loss of vegetation cover, loss and disruption of soil surfaces, and loss of wilderness characteristics to adjacent wideness areas.

The decision also restates the army's continuing commitment to environmental stewardship by implementing mitigation and monitoring measurers to offset potential reverse environmental impacts associated with the preferred alternative, as identified in the SFEIS and the ROD.

ADDRESSES: Requests for copies of the Army's ROD may be made to: Ms.Jennifer Barry, NTC Land Expansion Program, ATTN: AFZJ-ST, Strategic Planning Division, P.O. 105004, Fort Irwin, California, 93210, or by calling (760) 380-6174, or by sending an e-mail to Jennifer.Barry@Irwin.army.mil.

FOR FURTHER INFORMATION CONTACT: Please contact Ms. Jennifer Barry, or Mrs. Nicole Lileikis, AFZJ-SP Strategic Planning Division, P.O. 10309, Fort Irwin, CA 92311. Interested parties may also call (760) 380-6174.

SUPPLEMENTARY INFORMATION: The project involves acquisition of approximately 127,000 new acres on the east and southwest sides of the existing NTC and the return to training use of approximately 23,000 acres in the south that are currently restricted from military training. Implementation of the Preferred Alternative as outlined in the SFEIS will occur in a phased approach. Training will occur in the Eastgate parcel first, followed by the UTM 90 (the southern edge of Fort Irwin), and the last area on which training will begin will be the western area.

The Preferred alternative best meets the purpose and need for training at Fort Irwin and is crucial to achieving a trained military to provide for the current and future national security of the country.

The selected alternative has significant impacts, which are described in the SFEIS. Among these are impacts to the Desert Tortoise. The action also includes mitigation measures that will support conservation and management of the tortoise. The SFEIS discusses a Biological Opinion issued by the U.S. Fish and Wildlife Service on the effects of the proposed action on both the Desert Tortoise and another threatened or endangered species, the Lane Mountain Milk Vetch. The SFEIS also includes a Supplemental Biological Assessment prepared by the Army that addresses the crucial habitat of the Desert Tortoise.

Copies of the SFEIS ROD can be found at the following libraries for public reading: Library of Congress; Riverside Main Library; San Diego County Library; San Bernardino County Libraries at the following locations—Hesperia, San Bernardino, Apple Valley, Trona, Barstow, Big Bear, Lucerne Valley, Victorville, Wrightwood, and Yucca Valley.

The Record of Decision is also posted at the land Expansion Web site http://www.fortirwinlandexpansion.com.

Dated: March 14, 2006.
Addison D. Davis, IV,
Deputy Assistant Secretary of the Army, (Environment, Safety and Occupational Health), OASA(I&E).

[FR Doc. 06-2625 Filed 3-17-06; 8:45 am]

BILLING CODE 3710-08-M